FEDERAL COMMUNICATIONS COMMISSION

47 CFR Part 73

[DA 04-1026; MB Docket No. 03-77; RM-10660, RM-10835]

Radio Broadcasting Services; Ashland, AL; Atlanta, GA; Coaling, Cordova, Decatur, Dora, Holly Pond, and Midfield, AL; Pulaski, TN; Sylacauga and Tuscaloosa, AL

AGENCY: Federal Communications Commission.

ACTION: Final rule.

SUMMARY: In response to a petition for rule making in this proceeding filed by Cox Radio, Inc. and CXR Holdings, Inc. and a counterproposal jointly filed by Kea Radio, Inc. and Pulaski Broadcasting, Inc. this document grants multiple channel substitutions and changes of community of license in Alabama, Georgia and Tennessee. See 68 FR 17592, April 10, 2003. Specifically, this document substitutes Channel 239C2 for Channel 239C1 at Tuscaloosa, Alabama, reallots Channel 239C2 to Midfield, Alabama, and modifies the Station WBHJ license to specify operation on Channel 239C2 at Midfield. In order to accommodate the Channel 239C2 allotment at Midfield, this document reallots Channel 238A from Holly Pond, Alabama, Hackleburg, Alabama, and modifies the Station WFMH-FM license to specify Hackleburg as the community of license. To replace the loss of the sole local service at Holly Pond, this document reallots Channel 245C from Decatur, Alabama, to Holly Pond, and modifies the license of Station WRSA to specify Holly Pond as the community of license. In order to accommodate Channel 239C2 at Midfield, it reallots Channel 237A from Cordova, Alabama, Coaling, Alabama, and modifies the Station WFFN license to specify Coaling as the community of license. To replace the loss of the sole local service at Cordova, this document also reallots Channel 223A from Dora, Alabama, to Cordova, and modifies the Station WQOP-FM license to specify Cordova as the community of license. See Supplementary Information.

DATES: Effective June 4, 2004.

FOR FURTHER INFORMATION CONTACT: Robert Hayne, Mass Media Bureau (202) 418-2177.

SUPPLEMENTARY INFORMATION: This is a synopsis of the Report and Order in MM Docket No.03-77 adopted April 14, 2004, and released April 19, 2004. The full text of this decision is available for inspection and copying during normal business hours in the FCC Reference Information Center at Portals ll, CY-A257, 445 12th Street, SW., Washington, DC. The complete text of this decision may also be purchased from the Commission's copy contractor, Qualex International, Portals II, 445 12th Street, SW., Room CY-B402, Washington, DC 20554, telephone (202) 863-2893, facsimile (202) 863-2898, or via e-mail qualixint@aol.com.

This document reallots Channel 238A from Ashland, Alabama, to Hobson City, Alabama, and modifies the Station WASZ license to specify Hobson City as its community of license. To replace the loss of the sole local service at Ashland, this documents reallots Channel 252A from Sylacauga, Alabama, to Ashland, and modifies the Station WTRB-FM license to specify Ashland as its community of license. This document also reclassifies the Channel 253C allotment at Atlanta, Georgia, to Channel 253C0 and modifies the Station WSB-FM license to specify operation on Channel 253C0. This document substitutes Channel 252C3 for Channel 252A at Scottsboro, Alabama, and modifies the Station WKEA license to specify operation Channel 252C3. In order to accommodate the Channel 252C3 allotment at Scottsboro, this document substitutes Channel 252C3 for Channel 252A at Pulaski, Tennessee, reallots Channel 252C3 to Killen, Alabama, and modifies the Station WKSR-FM license to specify operation on Channel 252C3 at Killen. The reference coordinates for the Channel 239C2 allotment at Midfield, Alabama, are 33-24-50 and 87-01-05. The reference coordinates for the Channel 238A allotment at Hackleburg, Alabama, are 34-13-15 and 87-45-00. The reference coordinates for the Channel 245C allotment at Holly Pond, Alabama, are 34-29-23 and 86-37-38. The reference coordinates for the Channel 237A allotment at Coaling, Alabama, are 33-04-58 and 87-27-02. The reference coordinates for the Channel 223A allotment at Cordova, Alabama, are 33-38-55 and 87-09-19. The reference coordinates for the Channel 238A allotment at Hobson City, Alabama, are 33-29-30 and 85-52-55. The reference coordinates for the Channel 252A allotment at Ashland, Alabama, are 33-13-30 and 85-53-40. The reference coordinates for the Channel 253Co allotment at Atlanta, Georgia, are 33-45-33 and 84-20-05. The reference coordinates for the Channel 252C3 allotment at Scottsboro, Alabama, are 34-30-40 and 86-01-54. The reference coordinates for the Channel 252C3 allotment at Killen, Alabama, are 34-58-40 and 87-36-05.

List of Subjects in 47 CFR Part 73

Radio, Radio Broadcasting.

Part 73 of the Code of Federal Regulations is amended as follows:

PART 73—RADIO BROADCAST SERVICE

1. The authority citation for Part 73 continues to read as follows:

Authority: 47 U.S.C. 154, 303, 334 and 336.

§ 73.202 [Amended]

2. Section 73.202(b), the Table of FM Allotments under Alabama, is amended by removing Channel 238A and by adding Channel 252A at Ashland, by adding Coaling, Channel 237A, by removing Channel 237A and by adding Channel 223A at Cordova, by removing Channel 245C at Decatur, by removing Dora, Channel 223A, by adding Hackleburg, Channel 238A, by adding Hobson City, Channel 238A, by adding Holly Pond, Channel 245C, by adding Killen, Channel 252C3, by adding Midfield, Channel 239C2, by removing Channel 252A and by adding Channel 252C3 at Scottsboro, by removing Sylacauga, Channel 252A, and by removing Tuscaloosa, Channel 239C1.

3. Section 73.202(b), the Table of FM Allotments under Georgia, is amended by removing Channel 253C and by adding Channel 253C0 at Atlanta.

4. Section 73.202(b), the Table of FM Allotments under Tennessee, is amended by removing Pulaski, Channel 252A.

Federal Communications Commission.
John A. Karousos,
Assistant Chief, Audio Division, Media Bureau.

[FR Doc. 04-10683 Filed 5-11-04; 8:45 am]

BILLING CODE 6712-01-P